DEPARTMENT OF TRANSPORTATION

Federal Aviation Administration

Notice of Intent To Rule on Application 07-12-C-00-MDW To Impose and Use the Revenue From a Passenger Facility Charge (PFC) at Chicago Midway International Airport, Chicago, IL

AGENCY: Federal Aviation Administration (FAA), DOT.

ACTION: Notice of Intent to Rule on Applications.

SUMMARY: The FAA proposes to rule and invites public comment on the applications to impose and use the revenue from a PFC at Chicago Midway International Airport under the provisions of the 49 U.S.C. 40117 and Part 158 of the Federal Aviation Regulations (14 CFR Part 158).

DATES: Comments must be received on or before November 24, 2008.

ADDRESSES: Comments on the applications may be mailed or delivered in triplicate to the FAA at the following address: James C. Keefer, Federal Aviation Administration, Manager, Chicago Airports District Office, 2300 E. Devon, Room 320, Des Plaines, Illinois 60018.

In addition, one copy of any comments submitted to the FAA must be mailed or delivered to Richard L. Rodriguez, Commissioner of the City of Chicago Department of Aviation at the following address: Chicago O'Hare International Airport, 10510 West Zemke Road, P.O. Box 66142, Chicago, Illinois 60666.

Air carriers and foreign air carriers may submit copies of written comments previously provided to the City of Chicago Department of Aviation under section 158.23 of Part 158.

FOR FURTHER INFORMATION CONTACT: James G. Keefer, Federal Aviation Administration, Manager, Chicago Airports District Office, 2300 E. Devon, Room 320, Des Plaines, Illinois 60018, (847) 294-7336.

Review of Applications: Any person may inspect the applications in person at the Chicago Airports District Office, 2300 E. Devon, Room 320, Des Plaines, Illinois 60018. Please call (847) 294-7336 to set up an appointment. In addition, any person may, upon request, inspect the applications, notice and other documents germane to the application in person at the City of Chicago Department of Aviation, 10510 West Zemke Road, Chicago, Illinois 60666. Please contact Michael Zonsius at (773) 686-3433 to set up an appointment.

SUPPLEMENTARY INFORMATION: The FAA proposes to rule and invites public comment on the applications to impose and use the revenue from a PFC at Chicago Midway International Airport under the provisions of the 49 U.S.C. 40117 and Part 158 of the Federal Aviation Regulations (14 CFR Part 158).

On October 19, 2006, the City of Chicago Department of Aviation submitted an application to impose and use revenues from a PFC at Chicago Midway Airport.

On December 7, 2006, the FAA determined that the applications to impose and use the revenue from a PFC submitted by City of Chicago Department of Aviation were not substantially complete within the requirements of section 158.25 of Part 158. The City of Chicago supplemented this information on October 14, 2008. The FAA will approve or disapprove the applications, in whole or in part, no later than February 11, 2009.

The following is a brief overview of the application.

PFC application number: 07-12-C-00-MDW.

Proposed charge effective date: August 1, 2038.

Proposed charge expiration date: March 1, 2055.

Level of the proposed PFC: $3.00.

Total estimated PFC revenue: $ 85,224,519.

Level of the Proposed PFC: $4.50

Total estimated PFC revenue: $668,772,121.

Brief description of proposed project(s): Residential Soundproofing (2005-2011), Cyclical Airfield Rehabilitation, EDS In-line Baggage System, Concourse A lnfill, School Soundproofing, North Security Hall Expansion, Vehicle Acquisitions and Land Acquisition—Runway Protection Zone.

Class or classes of air carriers which the public agency has requested not be required to collect PFCs: Air taxi.

Issued in Des Plaines, Illinois, on October 16, 2008.
Elliott Black,
Manager, Planning/Programming Branch, Airports Division, Great Lakes Region.

[FR Doc. E8-25231 Filed 10-23-08; 8:45 am]

BILLING CODE 4910-13-M